DEPARTMENT OF THE INTERIOR

Bureau of Reclamation

DEPARTMENT OF ENERGY

Federal Energy Regulatory Commission

Battle Creek Salmon and Steelhead Restoration Project, Tehama and Shasta Counties, CA

AGENCIES: Bureau of Reclamation, Interior. Federal Energy Regulatory Commission, Energy.

ACTION: Notice of Availability of the Draft Environmental Impact Statement/Environmental Impact Report (EIS/EIR) and notice of public workshop and notice of public hearing.

SUMMARY: The Bureau of Reclamation (Reclamation), the lead Federal agency; the Federal Energy Regulatory Commission (FERC), a cooperating Federal agency; and the State Water Resources Control Board (SWRCB), the lead State agency, have made available for public review and comment the Draft EIS/EIR for the Battle Creek Salmon and Steelhead Restoration Project (Restoration Project). The proposed CALFED-supported Restoration Project would restore approximately 42 miles of habitat in Battle Creek and an additional 6 miles of habitat in its tributaries, while minimizing the loss of clean and renewable energy produced by the Battle Creek Hydroelectric Project (Hydroelectric Project), owned and operated by Pacific Gas and Electric Company (PG&E).

DATES: Submit written comments on the Draft EIS/EIR on or before September 16, 2003 to both Ms. Mary Marshall and Mr. Jim Canaday at the addresses below.

A public workshop will be held on Wednesday, July 23, 2003, from 6 p.m. to 8 p.m. at the address below to discuss the purpose and content of the Draft EIS/EIR.

As part of the National Environmental Policy Act (NEPA), a public hearing will be held on Tuesday, August 12, 2003, from 6 p.m. to 8 p.m. at the address below. The purpose of the NEPA public hearing is to provide the public an opportunity to orally comment on the Draft EIS/EIR. Written comments will also be accepted at the public hearing. Note that this public hearing is separate from and not associated with any SWRCB hearings.

ADDRESSES: The public workshop and public hearing will be held at the Manton Joint Union Elementary School, 31345 Forward Road, Manton, California.

Written comments on the Draft EIS/EIR should be addressed to both, Ms. Mary Marshall, Bureau of Reclamation, 2800 Cottage Way, Sacramento, CA 95825 and Mr. Jim Canaday, State Water Resources Control Board, 1001 I Street, Sacramento, CA 95814.

Copies of the Draft EIS/EIR may be requested from Ms. Sammie Cervantes at 2800 Cottage Way, Sacramento, CA 95825, or by calling (916) 978-5104, TDD (916) 978-5608, or scervantes@mp.usbr.gov. See SUPPLEMENTARY INFORMATION section for locations where copies of the Draft EIS/EIR are available for public review.

FOR FURTHER INFORMATION CONTACT: Ms. Mary Marshall, Reclamation, at (916) 978-5248, TDD (916) 978-5608, e-mail: mmarshall@mp.usbr.gov or Mr. Jim Canaday, SWRCB, at (916) 341-5308, e-mail: jcanaday@waterrights.swrcb.ca.gov.

SUPPLEMENTARY INFORMATION: Habitat restoration would enable safe passage for naturally produced salmonids and would facilitate their growth and recovery within the Sacramento River and its tributaries. These salmonids include the Central Valley spring-run chinook salmon, State and Federally listed as threatened; the Sacramento River winter-run chinook salmon, State and Federally listed as endangered; and the Central Valley steelhead, Federally listed as threatened.

The Restoration Project would be accomplished through the modification of Hydroelectric Project facilities and operations, including instream flow releases. The Federal Power Act establishes with FERC the exclusive authority to license nonfederal water-power projects on navigable waterways and Federal lands. PG&E is required to file an application with FERC for an amendment to PG&E's existing license to operate the hydropower facilities on Battle Creek that would be affected by implementation of the proposed Restoration Project. PG&E will make available for public review and comment its Draft License Amendment Application at the same time as the Draft EIR/EIS. FERC intends to adopt the EIS to fulfill its NEPA requirements as part of its review of PG&E's amendment application. FERC will ensure that proposed changes in the Hydroelectric Project comply with NEPA prior to issuing the license amendment.

FERC licensing actions in California, including new licenses, license amendments that potentially effect water quality or designated beneficial uses, and project relicensing, require Federal Clean Water Act Section 401 water quality certification from the SWRCB. SWRCB involvement in Clean Water Act Section 401 certification is subject to compliance with the California Environmental Quality Act.

The Draft EIS/EIR discusses the project purpose and need, project description, project background, and related projects. The Draft EIS/EIR addresses the impacts of project construction and operation on fisheries, botanical, wetland and wildlife resources, hydrology, power generation and economics, water quality, groundwater, land use, socioeconomics, geology and soils, aesthetics and visual resources, transportation, noise, air quality, public health and safety, public services and utilities, recreation, cultural resources, environmental justice, and Indian trust assets.

Copies of the Draft EIS/EIR are available for public review at the following locations:

• Tehama County Library, 645 Madison, Red Bluff, CA, 96080, (530) 527-0604.

• Bureau of Reclamation, Red Bluff Field Office, 22500 Altube Avenue, Red Bluff CA, 96080, (530) 529-3890.

• Shasta County Library, 1855 Shasta Street, Redding, CA, 96001, (530) 225-5769.

• Susanville Library, Lassen County, 1618 Main Street, Susanville CA 96130, (530) 251-8127.

• Bureau of Reclamation, Denver Office Library, Building 67, Room 167, Denver Federal Center, 6th and Kipling, Denver, CO 80225, (303) 445-2072.

• Bureau of Reclamation, Office of Public Affairs, 2800 Cottage Way, Sacramento, CA 95825-1898, (916) 978-5100.

• Natural Resources Library, U.S. Department of the Interior, 1849 C Street NW., Main Interior Building, Washington, DC 20240-0001.

Comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations or businesses and from individuals identifying themselves as representatives or officials of organizations or businesses will be made available for public disclosure in their entirety.

Dated: May 14, 2003.
John F. Davis,
Deputy Regional Director, Mid-Pacific Region, Bureau of Reclamation.
Dated: May 7, 2003.
Joseph D. Morgan,
Director, Division of Hydropower Administration and Compliance, Federal Energy Regulatory Commission.

[FR Doc. 03-18291 Filed 7-17-03; 8:45 am]

BILLING CODE 4310-MN-P